DEPARTMENT OF TRANSPORTATION

Federal Transit Administration

FY 2023 Emergency Relief Grants for Public Transportation Systems Affected by Major Declared Disasters in Calendar Years 2017, 2020, 2021, and 2022

AGENCY: Federal Transit Administration (FTA), U.S. Department of Transportation (DOT).

ACTION: Notice of re-opening application submissions and revised requirements.

SUMMARY: The Federal Transit Administration (FTA) is re-opening the application period for grants under the Public Transportation Emergency Relief Program (Emergency Relief Program) for States, Territories, local government authorities, Indian Tribes, and other FTA recipients affected by major declared disasters for 90 days.

DATES: Complete proposals must be submitted electronically to opportunity FTA-2023-011-TPM-ER through the GRANTS.GOV “APPLY” function by October 31, 2023. However, applications received within the first 30 days will be provided priority.

FOR FURTHER INFORMATION CONTACT: Thomas Wilson, Emergency Relief Program Manager, Office of Program Management, 1200 New Jersey Ave. SE, Washington, DC 20590, phone: (202) 366-5279, or email, Thomas.Wilson@dot.gov.

SUPPLEMENTARY INFORMATION:

On March 27, 2023, the Federal Transit Administration (FTA) announced the opportunity to apply for $212,301,048 in grants under the Public Transportation Emergency Relief Program (Emergency Relief Program) for States, Territories, local government authorities, Indian Tribes, and other FTA recipients affected by major declared disasters in calendar years 2017, 2020, 2021, and 2022 (88 FR 18210). The deadline for proposals was May 26, 2023. After the initial allocation of $102,325,551 in funding, $109,975,497 remains to be allocated to eligible recipients.

By this notice, FTA is re-opening the application submission period for 90 days. Applicants who submitted proposals prior to May 26, 2023, do not need to re-submit. Applications during this period must be submitted to opportunity FTA-2023-011-TPM-ER through GRANTS.GOV.

FTA will review applications and make additional funding allocations on a rolling basis, with the first review taking place for any application submitted within the first 30 days of the publication of this notice. If funding remains, additional applications will be evaluated after the final submission deadline of October 31, 2023.

The March 27, 2023, notice stated a maximum Federal share for all grants awarded via that notice would be 90 percent of the net project cost unless the project is in response to, or recovery from, a major declared disaster in an insular area, in which case the maximum Federal share would be 100 percent (48 U.S.C. 1469a). The notice also invited applicants from other than insular areas to request a waiver of the non-Federal share requirement (49 U.S.C. 5324(e)(3)). FTA noted its ability to provide a waiver and fully fund an applicant's request may depend on total requests from all applicants. By this notice, FTA is waiving the non-Federal match requirement for all prospective applicants and invites eligible applicants to apply for funding at 100 percent Federal share. Consistent with the March 27, 2023, notice, expenses related to COVID-19 response or recovery are not eligible.

All other eligibilities and requirements stated in the March 27, 2023 notice apply. Interested applicants should review that notice (88 FR 18210) for additional information. Further information, including a recording of the webinar held April 6, 2023, can be found on FTA's website at https://www.transit.dot.gov/notices-funding/public-transportation-emergency-relief-funds-transit-systems-affected-major.

Nuria I. Fernandez,
Administrator.

[FR Doc. 2023-16416 Filed 8-1-23; 8:45 am]

BILLING CODE 4910-57-P